NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by October 26, 2023. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2021-004) to Grant Ballard on September 23, 2020. The issued permit allows the applicant to engage in take, harmful interference, enter Antarctic Specially Protected Areas (ASPAs), and import samples into the USA in association with research on the role of environmental factors on foraging, diet, growth, and survival of Adelie penguins (Pygoscelis adeliae). Research activities include installing weighbridges, resighting banded birds, and following birds through incubation and chick-rearing until late January. The applicant and agents attach logging and tracking devices on breeding adults and chicks and collect fecal, blood, and feather samples from adults and chicks during the brooding and guarding stage, then attach long-term GPS-Argos tags and geolocating dive recorders on adult penguins. To survey the large colonies at Cape Royds and Cape Crozier in a timely manner, the applicant and agents employ multiple, self- and collectively-aware remotely piloted aircraft (RPAS) simultaneously. Now the applicant proposes a modification to the permit to attach biologging devices to penguins during the egg incubation period, with the number of penguins being tagged remaining the same. The applicant also proposes to collect opportunistic fecal samples from a wider range of species, including Emperor Penguins, South Polar Skua, and Weddell Seals. Some incidental disturbance of the animals may occur during the collection of the fecal samples. A Marine Mammal Protection Act permit is additionally being sought to permit any incidental disturbance of Weddell Seals.

Location: ASPA 121, Cape Royds, Ross Island; ASPA 124, Cape Crozier, Ross Island; ASPA 105, Beaufort Island; Cape Bird (outside ASPA boundary).

Dates: September 15, 2023 to February 15, 2025.

Kimiko S Bowens-Knox,
Program Analyst, Office of Polar Programs.

[FR Doc. 2023-20821 Filed 9-25-23; 8:45 am]

BILLING CODE 7555-01-P